DEPARTMENT OF HEALTH AND HUMAN SERVICES

Centers for Disease Control and Prevention

Notice of Establishment

Pursuant to the Homeland Security Presidential Directive (HSPD-21); Section 222 of the Public Health Service Act, [42 U.S.C. 217a] as amended, the Director, Centers for Disease Control and Prevention (CDC), announces the establishment of the National Public Health Surveillance and Biosurveillance Advisory Committee (NPHSBAC).

The National Public Health Surveillance and Biosurveillance Advisory Committee shall advise the Secretary, HHS; the Assistant Secretary for Health; the Assistant Secretary for Preparedness and Response; the Director, CDC; and the Director, Office of Surveillance, Epidemiology and Laboratory Services (OSELS) regarding the broad range of issues impacting the human health component of biosurveillance.

For information, contact Pamela Diaz, M.D., Designated Federal Officer, National Public Health Surveillance and Biosurveillance Advisory Committee, OSELS, Public Health Surveillance Program Office, CDC, 1600 Clifton Road, NE., Atlanta, Georgia 30333, telephone (404) 498-0476, or email: pdiaz@cdc.gov.

The Director, Management Analysis and Services Office, has been delegated the authority to sign Federal Register notices pertaining to announcements of meetings and other committee management activities for both the Centers for Disease Control and Prevention, and the Agency for Toxic Substances and Disease Registry.

Dated: September 24, 2012.
Elaine L. Baker,
Director, Management Analysis and Services Office, Centers for Disease Control and Prevention.

[FR Doc. 2012-24423 Filed 10-2-12; 8:45 am]

BILLING CODE 4163-18-P